INTERNATIONAL TRADE COMMISSION

[USITC SE-01-011]

Sunshine Act Meeting

AGENCY HOLDING THE MEETING: International Trade Commission.

TIME AND DATE: April 6, 2001 at 2:00 p.m.

PLACE: Room 101, 500 E Street SW., Washington, DC 20436, Telephone: (202) 205-2000.

STATUS: Open to the public.

MATTERS TO BE CONSIDERED:

1. Agenda for future meeting: none.

2. Minutes.

3. Ratification List.

4. Inv. No. 731-TA-921 (Preliminary)(Folding Gift Boxes from China)—briefing and vote. (The Commission is currently scheduled to transmit its determination to the Secretary of Commerce on April 6, 2001; Commissioners' opinions are currently scheduled to be transmitted to the Secretary of Commerce on April 13, 2001.)

5. Outstanding action jackets: none.

In accordance with Commission policy, subject matter listed above, not disposed of at the scheduled meeting, may be carried over to the agenda of the following meeting.

Issued: March 28, 2001.
By order of the Commission.
Donna R. Koehnke,
Secretary.

[FR Doc. 01-8263 Filed 3-30-01; 12:24 pm]

BILLING CODE 7020-02-U